DEPARTMENT OF THE INTERIOR

Bureau of Land Management

[AZ-310-7122-ES-5793; AZA 32905]

Notice of Intent To Prepare an Amendment to the Kingman Resource Management Plan; Arizona

AGENCY: Bureau of Land Management, Interior.

ACTION: Notice of intent.

SUMMARY: The Bureau of Land Management (BLM) Field Office, Kingman, Arizona intends to prepare an amendment to the Kingman Resource Management Plan (RMP) to determine if a parcel of public lands (identified below) should be classified under Section 7 of the Taylor Grazing Act (43 U.S.C. 315f) and Executive Order No. 6910, for actions under the Recreation and Public Purposes (R&PP) Act, as amended (43 U.S.C. 869 et seq.).

DATES: In order to ensure consideration in the Environmental Analysis (EA) of the proposed plan amendment, comments must be received by September 19, 2007.

ADDRESSES: Comments should be addressed to Wayne King, Field Manager, BLM Kingman Field Office, 2755 Mission Boulevard, Kingman, Arizona 86401.

Documents pertinent to this proposal may be examined at the Kingman BLM Field Office.

FOR FURTHER INFORMATION CONTACT: Andy Whitefield, Land Law Examiner, BLM Kingman Field Office, telephone 928-718-3746.

SUPPLEMENTARY INFORMATION: This document provides notice that the BLM Field Office, Kingman, Arizona, intends to prepare an environmental analysis to determine whether or not it should amend its RMP and initiates scoping for the proposed amendment. The purpose of the public scoping process is to determine relevant issues that will influence the scope of the environmental analysis concerning whether or not the BLM should be allowed to classify the following described public lands for actions under the R&PP Act:

Gila and Salt River Meridian, Arizona

T. 20 N., R. 16 W.,

Sec. 1, lot 5.

The area described contains 1.31 acres, more or less.

These lands were acquired along with other lands pursuant to an exchange executed under the authority of section 206 of the Federal Land Policy and Management Act (FLPMA), as amended, 43 U.S.C. 1716. When acquired, these lands became “public lands,” pursuant to section 205(c) of FLPMA, 43 U.S.C. 1715(c), and thus made subject to BLM classification and planning requirements. One parcel was acquired subject to a lease made with the Pinion Pine Fire District for a fire station. The lease subsequently expired, prior to which the Fire District applied to the BLM for the conveyance of the same parcel, together with additional adjacent public land, pursuant to the R&PP Act. This parcel and the adjacent public lands are those described above and are included in the Fire District's R&PP Act application. Since it is the policy of the BLM not to convey lands under the authority of the R&PP Act that have been acquired by exchange under the authority of Section 206 of FLPMA, the BLM will only consider leasing the surface of the above described lands under the authority of the R&PP Act. 43 CFR 2740.0-6(e).

The BLM Kingman RMP limits the public lands under its purview that may be leased or conveyed pursuant to the R&PP Act to those parcels specifically identified in the RMP for that use or that are designated for disposal. The above described lands are not so identified in the Kingman RMP. Therefore, the BLM is initiating scoping to determine if it should amend the Kingman RMP in accordance with 43 CFR 1610.5-5 to identify the above described lands as being eligible for actions under the authority of the R&PP Act. Planning criteria relevant to this proposal are found in the Kingman RMP.

Comments: The public is invited to provide comments regarding any concerns, issues, or proposed alternatives to the proposed Kingman RMP amendment.

Before including your address, phone number, e-mail address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public inspection in their entirety.

Dated: August 8, 2007.
Wayne King,
Kingman Field Manager.

[FR Doc. E7-16337 Filed 8-17-07; 8:45 am]

BILLING CODE 4310-32-P